DEPARTMENT OF HEALTH AND HUMAN SERVICES

Centers for Medicare & Medicaid Services

[CMS-1587-N]

Medicare Program; Notification of Closure of St. Vincent's Medical Center

AGENCY: Centers for Medicare & Medicaid Services (CMS), HHS.

ACTION: Notice.

SUMMARY: This notice announces the closure of St. Vincent's Medical Center and the initiation of an application process for hospitals to apply to the Centers for Medicare & Medicaid Services (CMS) to receive St. Vincent's Medical Center's full time equivalent (FTE) resident cap slots.

DATES: We will consider applications received no later than 5 p.m. (e.s.t) September 28, 2011 Applications must be received, not postmarked, by this date.

FOR FURTHER INFORMATION CONTACT: Renate Dombrowski, (410) 786-4645.

SUPPLEMENTARY INFORMATION:

I. Background

Section 5506 of the Patient Protection and Affordable Care Act (Pub. L. 111-148), as amended by the Health Care and Education Reconciliation Act of 2010 (Pub. L. 111-152) (collectively, the “Affordable Care Act”), “Preservation of Resident Cap Positions from Closed Hospitals,” authorizes the Secretary to redistribute residency slots after a hospital that trained residents in an approved medical residency program(s) closes. Specifically, section 5506 of the Affordable Care Act, amended the Social Security Act (the Act), by adding subsection (vi) to section 1886(h)(4)(H) of the Act and modifying language at section 1886(d)(5)(B)(v) of the Act, to instruct the Secretary to establish a process to increase the full time equivalent (FTE) resident caps for other hospitals based upon the FTE resident caps in teaching hospitals that closed “on or after a date that is 2 years before the date of enactment” (that is, March 23, 2008). In the November 24, 2010 CY 2011 Outpatient Prospective Payment System (OPPS) final rule (75 FR 72212), we established regulations and an application process for qualifying hospitals to apply to CMS to receive direct graduate medical education (GME) and indirect medical education (IME) FTE resident cap slots from the hospital that closed. The procedures we established apply both to teaching hospitals that closed on or after March 23, 2008 and on or before August 3, 2010 and to teaching hospitals that closed after August 3, 2010. For teaching hospitals that closed on or after March 23, 2008 and on or before August 3, 2010, we established an application deadline of April 1, 2011, for a hospital to request cap slots from the closed hospital(s). We also stated in the November 24, 2010 FY 2011 OPPS final rule that hospitals that close at any point after August 3, 2010 will fall into the second category of applications, for which we will provide a separate notice with a future application deadline (75 FR 72215).

II. Provisions of the Notice

CMS has learned of the closure of another teaching hospital that occurred after August 3, 2010. The purpose of this notice is to notify the public of the closure of St. Vincent's Medical Center, provider number 33-0290, in New York City. The hospital's direct GME FTE resident cap is 321.11 and the IME FTE resident cap is 295.86. St. Vincent's Medical Center was located in core-based statistical area (CBSA) 35644. The official date of the termination of the Medicare provider agreement, and therefore, the date of the closure, is October 31, 2010.

In the November 24, 2010 CY 2011 OPPS final rule, we stated that the application deadline for future hospital closures would be 4 months following the issuance of that notice to the public (75 FR 72215). Therefore, hospitals wishing to apply for and receive slots from St. Vincent's Medical Center's FTE resident caps must submit applications to the CMS New York Regional Office and to the CMS Central Office no later than September 28, 2011. Applications must be received, not postmarked, by this date.

We refer readers to http://www.cms.gov/AcuteInpatientPPS/06_dgme.asp#TopOfPage to download a copy of the CMS Evaluation Form 5506, which is the application form that hospitals are to use to apply for slots under section 5506 of the Affordable Care Act. We also refer readers to this Web site to access a copy of the CY 2011 OPPS November 24, 2010 final rule, for an explanation of the policy and procedures for applying for slots and the redistribution of the slots under sections 1886(h)(4)(H)(vi) and 1886(d)(5)(B)(v) of the Act, as provided by section 5506 of the Affordable Care Act. The mailing addresses for the CMS New York Regional Office and to the CMS Central Office are included in this application form.

In the November 24, 2010 CY 2011 OPPS final rule, we did not establish a deadline by when CMS would issue the final determinations to hospitals that receive slots under section 5506 of the Affordable Care Act. However, we will review all applications received by the September 28, 2011 deadline and notify applicants of our determinations as soon as possible.

III. Collection of Information Requirements

This document does not impose information collection and recordkeeping requirements. Consequently, it need not be reviewed by the Office of Management and Budget under the authority of the Paperwork Reduction Act of 1995 (44 U.S.C. Chapter 35).

(Catalog of Federal Domestic Assistance Program No. 93.773 Medicare—Hospital Insurance Program; and No. 93.774, Medicare—Supplementary Medical Insurance Program)

Dated: May 19, 2011.
Donald M. Berwick,
Administrator, Centers for Medicare & Medicaid Services.

[FR Doc. 2011-13478 Filed 5-27-11; 8:45 am]

BILLING CODE 4120-01-P